DEPARTMENT OF EDUCATION

Submission for OMB Review; Comment Request

AGENCY: Department of Education.

SUMMARY: The Director, Information Collection Clearance Division, Regulatory Information Management Services, Office of Management invites comments on the submission for OMB review as required by the Paperwork Reduction Act of 1995.

DATES: Interested persons are invited to submit comments on or before April 24, 2009.

ADDRESSES: Written comments should be addressed to the Office of Information and Regulatory Affairs, Attention: Education Desk Officer, Office of Management and Budget, 725 17th Street, NW., Room 10222, New Executive Office Building, Washington, DC 20503 or faxed to (202) 395-6974.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Director, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: March 20, 2009.
Angela C. Arrington,
Director, Information Collection Clearance Official,Regulatory Information Management Services,Office of Management.

Federal Student Aid

Type of Review: New.

Title: College.gov Career Tools and college coaches.

Frequency: On occasion.

Affected Public: Businesses or other for-profit, individuals or household.

Reporting and Recordkeeping Hour Burden:

Responses: 400.

Burden Hours: 133.

Abstract: The purpose for including the Career Tool and I'm Going Guide features is to provide students with real world, relatable examples of current college students who were able to overcome obstacles in order to reach a postsecondary education. This feature builds on College.gov's objective to provide students with the inspiration and hope to see that a college education is possible for everyone (especially targeting underrepresented populations). In the I'm Going Guide feature, students can select current college students to view their profiles, see why and how they went to college, and read the college student's advice for high school students. Each student's profile would include their first name, photo, major and brief description about the student, such as where they are studying, and tips for other students. For the Career Tool feature, the site would show 24 different college grads at a time, but the goal would be to have about 75 that we could “shuffle” on the tool's display. Each college grad's profile would provide their first name, major, career field, and advice for students interested in their field of study. This information clearance will enable the Department to college grad profiles for including in the Career Tool and I'm Going Guide.

Requests for copies of the information collection submission for OMB review may be accessed from http://edicsweb.ed.gov, by selecting the “Browse Pending Collections” link and by clicking on link number 3929. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E9-6674 Filed 3-24-09; 8:45 am]

BILLING CODE 4000-01-P